DEPARTMENT OF COMMERCE

United States Patent and Trademark Office

Pro Bono Survey

ACTION: Notice of renewal of information collection; comment request.

SUMMARY: The United States Patent and Trademark Office (USPTO), as required by the Paperwork Reduction Act of 1995, invites comments on a proposed revision and extension of an existing information collection: 0651-0082 (Pro Bono Survey).

DATES: Written comments must be submitted on or before January 13, 2020.

ADDRESSES: You may submit comments by any of the following methods:

• Email: InformationCollection@uspto.gov. Include “0651-0082 comment” in the subject line of the message.

• Federal Rulemaking Portal: http://www.regulations.gov.

• Mail: Marcie Lovett, Chief, Records and Information Governance Branch, Office of the Chief Administrative Officer, United States Patent and Trademark Office, P.O. Box 1450, Alexandria, VA 22313-1450.

FOR FURTHER INFORMATION CONTACT: Requests for additional information should be directed to James M. Silbermann, Senior Counsel for Enrollment and Intellectual Property Legal Services, Office of Enrollment and Discipline, United States Patent and Trademark Office, P.O. Box 1450, Alexandria, VA 22313-1450; by telephone at (571) 272-4097; or by email to James.Silbermann@uspto.gov with “0651-0082 comment” in the subject line. Additional information about this collection is also available at http://www.reginfo.gov under “Information Collection Review.”

SUPPLEMENTARY INFORMATION:

I. Abstract

The Leahy-Smith America Invents Act (AIA), Public Law 112-29 § 32 (2011) directs the USPTO to work with and support intellectual property law associations across the country in the establishment of pro bono programs designed to assist financially under-resourced independent inventors and small businesses. To support this, the USPTO—in collaboration with various non-profit organizations—has established a series of autonomous regional hubs that act as matchmakers to help connect low-income inventors with volunteer patent attorneys across the United States. The regional hubs comprise law school IP clinics, bar associations, innovation/entrepreneurial organizations, and arts-focused lawyer referral services that are strategically located to provide access to patent pro bono services across all fifty states and the District of Columbia. Additionally, the Study of Underrepresented Classes Chasing Engineering and Science Success Act (SUCCESS Act), Public Law 115-273 (2018) directs the agency to provide recommendations on how to increase the number of women, minorities, and veterans who apply for and obtain patents.

To support the purposes described above, the pro bono survey would continue to collect information regarding the activity of the regional hubs. The USPTO has worked with the Pro Bono Advisory Council (PBAC) to determine what information is necessary to ascertain the effectiveness of each regional pro bono hub's matchmaking operations. PBAC is a well-established group of patent practitioners and patent pro bono regional hub administrators who have committed to provide support and guidance to patent pro bono programs across the country. The data presently gathered, and which would continue, provides USPTO with valuable information, including the number of inventor inquires, referral sources, number of applicants successfully matched with attorneys, and types of patent filing activity. PBAC, in conjunction with the regional hubs, is responsible for the collection of this information, which is collected on a quarterly basis. The information, at its highest level, will allow PBAC and the USPTO to ascertain whether the regional hubs are matching qualified low-income inventors with volunteer patent attorneys and help establish the total economic benefit derived by low-income inventors in the form of donated legal services. This information also helps the USPTO determine which regional hubs are operating efficiently and which programs need additional support by ascertaining the effectiveness of each individual regional hub with respect to their matchmaking efforts.

Additionally, USPTO is proposing to revise the existing information collection to gather information regarding gender, ethnicity, race, and veteran status. Each regional hub will be requesting demographic information for those seeking assistance that will be self-identified by the applicant. This requested standardized demographic information will be part of the overall application materials that each independent inventor fills out when seeking pro bono assistance. This information will also be used to help determine the extent to which the pro bono program is helping women, minorities, and veterans apply for patents.

II. Method of Collection

This survey will be conducted electronically through a web form created to support this survey.

III. Data

OMB Number: 0651-0082.

IC Instruments and Forms: The individual instrument in this collection, as well as its associated form, is listed in the table below.

Type of Review: Extension of an existing information collection.

Affected Public: Not-for-profit institutions.

Estimated Number of Respondents: 1106 total respondents. An estimated 20 regional hubs will provide quarterly responses to USPTO (the PBAC Administrator Survey). This results in 80 responses from regional hubs per year. In addition, an estimated 1026 applicants will provide demographic data in their applications directly to the regional hubs as part of their individual applications for pro bono assistance, resulting in 1026 responses from applicants per year.

Estimated Time per Response: The USPTO estimates that it will take two hours to complete the PBAC Administrator Survey, including time needed to gather the necessary information, enter it into the information collection instrument, and submit it. The USPTO estimates that it will take approximately one minute for applicants to answer the demographic questions.

Estimated Total Annual Respondent Burden Hours: 177.10 hours.

Estimated Total Annual Respondent (Hourly) Cost Burden: $8,866.44.00. The USPTO expects that regional program administrators will complete these applications. The professional hourly rate for a regional program administrator is $50.11. The rate for administrators (BLS 11-0000) is based the BLS 2018 National Occupation and Employment and Wage Estimates. The hourly rate for the demographic survey uses the estimated rate for independent inventors (the average of mean rates for Engineers and Scientists). Using this hourly rate, the USPTO estimates that the total respondent cost burden for this collection is $8,866.44.00 per year.

IC No. | Information collection instrument | Estimated time for response (minutes) | Estimated annual responses | Estimated annual burden hours | Rate ($/hr) | Totals
|  | (a) | (b) | ((a × (b) / 60) = (c) | (d) | (c × d) = (e)
1 | Regional Program Administrator Survey | 120 | 80 | 160 | $50.11 | $8,017.60
2 | Demographic survey | 1 | 1,026 | 17.1 | 49.64 | 848.84
Total |  |  | 1,106 | 177.1 |  | 8,866.44

Estimated Total Annual (Non-hour) Respondent Cost Burden: $26,666.66. There is a startup cost for each regional hub to update their data collection form to capture demographic data. The USPTO estimates that each regional hub (20) will require, on average, $4,000.00 to update their web collection form. A total one-time cost of $80,000.00 is annualized over a three (3) year collection period, for an annual cost of $26,666.66. There are no maintenance, or operating fees associated with this collection, nor are there postage costs, filing fees, or processing fees.

IV. Request for Comments

Comments submitted in response to this notice will be summarized and/or included in the request for OMB approval. All comments will become a matter of public record. USPTO invites public comments on:

(a) Whether the collection of information is necessary for the proper performance of the functions of the agency, including whether the information will have practical utility;

(b) Accuracy of the agency's estimate of the burden (including hours and cost) of the proposed collection of information, including the validity of the methodology and assumptions used;

(c) Ways to enhance the quality, utility, and clarity of the information to be collected; and

(d) Ways to minimize the burden of the collection of information on respondents, e.g, including through the use of appropriate automated, electronic, mechanical, or other technological collection techniques or other forms of information technology, e.g.,permitting electronic submission of responses.

Marcie Lovett,
Director, Records and Information Governance Branch, Office of the Chief Administrative Officer, USPTO.

[FR Doc. 2019-24618 Filed 11-12-19; 8:45 am]

BILLING CODE 3510-16-P